DEPARTMENT OF HOUSING AND URBAN DEVELOPMENT

[Docket No. FR-4900-FA-25]

Announcement of Funding Awards for Fiscal Year 2004 Historically Black Colleges and Universities Program

AGENCY: Office of the Assistant Secretary for Policy Development and Research, HUD.

ACTION: Announcement of funding awards.

SUMMARY: This document identifies the entities selected for funding under the Fiscal Year 2004 Historically Black Colleges and Universities program (HBCUs). The HBCUs program assists Historically Black Colleges and Universities in expanding their role and effectiveness in addressing community development needs in their localities, consistent with the purposes of HUD's Community Development Block Grant program (CDBG). This notice is published in accordance with section 102(a)(4)(C) of the Department of Housing and Urban Development Reform Act of 1989.

FOR FURTHER INFORMATION CONTACT: Susan Brunson, Office of University Partnerships, Department of Housing and Urban Development, Room 8106, 451 Seventh Street, SW., Washington, DC 20410-6000, telephone (202) 708-3061, ext. 3852. To provide service for persons who are hearing-or speech-impaired, this number may be reached via TTY by dialing the Federal Information Relay Service on 800-877-8339 or 202-708-1455. (Telephone number, other than “800” TTY numbers are not toll free).

SUPPLEMENTARY INFORMATION: The Historically Black Colleges and Universities program was enacted under Section 107 of the CDBG appropriation for Fiscal Year 2004, as part of the “Veterans Administration, HUD and Independent Agencies Appropriations Act of 2004” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU program provides funds for a wide range of CDBG-eligible activities, including housing rehabilitation and financing, property demolition or acquisition, public facilities, economic development, business entrepreneurship, and fair housing programs.

The Catalog Federal Domestic Assistance number for this program is 14.237.

On May 14, 2004 (69 FR 27033), HUD published a Notice of Funding Availability (NOFA) announcing the availability of $9.5 million in Fiscal Year 2004 for the HBCU program. Of this amount, $1.4 million was made available to HBCU applicants that had not been funded in the past (applicants could request up to $340,000) and $7.6 million to HBCU applicants that had been previously funded (applicants could request between $340,000 to $550,000). The Department reviewed, evaluated, and scored the applications received based on the criteria in the NOFA. As a result, HUD has funded the applications below, and in accordance with section 102(a)(4)(C) of the Department of Housing and Urban Development Reform Act of 1989 (103 Stat. 1987, 42 U.S.C. 3545), the Department is publishing details concerning the recipients of funding awards, as set forth below.

List of Awardees for Grant Assistance Under the FY 2004 Historically Black Colleges and Universities Program Funding Competition, by Institution, Address, and Grant Amount

Region III

1. University of Maryland Eastern Shore, Dr. Joseph O. Arumala, University of Maryland Eastern Shore, Backbone Road, Princess Anne, MD 21853. Grant: $340,000.

2. West Virginia State University, Ms. Jenny Fertig, West Virginia State University, P.O. Box 1000, 835 Sullivan Hall East, Kanawha, WV 25112. Grant: $550,000.

Region IV

3. Alabama State University, Dr. William Brock, Alabama State University, 915 South Jackson Street, Montgomery, AL 36104. Grant: $548,339.

4. Savannah State University, Dr. Shirley Geiger, Savannah State University, 3219 College Street, Savannah, GA 31404. Grant: $550,000.

5. Benedict College, Mr. Larry Salley, Benedict College, 1600 Harden Street, Columbia, SC 29204. Grant: $550,000.

6. Allen University, Ms. Marian Thompson, Allen University, 1530 Harden Street, Columbia, SC 29204. Grant: $550,000.

7. North Carolina A&T State University, Dr. Musibau Shofoluwe, North Carolina A&T State University, 1601 East Market Street, Greensboro, NC 27411. Grant: $548,174.

8. Florida A&M University, Ms. Patricia W. McGill, Florida A&M University, Suite 400 Foote-Hilyer, Administration Center, Tallahassee, FL 32307. Grant: $550,000.

9. Livingstone College, Mrs. Grace Adams-Square, Livingstone College, 701 West Monroe Street, Salisbury, NC 28144. Grant: $340,000.

10. Hinds Community College-Utica Campus, Mr. Bobby James Pamplin, Hinds Community College—Utica Campus, P.O. Box 1094-HCC, Utica, MS 39175. Grant: $550,000.

11. Claflin University, Mr. Leon Brunson, Claflin University, 400 Magnolia Street, Orangeburg, SC 29115. Grant: $550,000.

Region VI

12. University of Arkansas at Pine Bluff, Mr. Henry Aaron Golatt, University of Arkansas at Pine Bluff, 1200 North University Drive, Mail Slot 4943, Pine Bluff, AR 71601. Grant: $550,000.

13. Southern University at Shreveport, Ms. Jeanette H. Williams, Southern University at Shreveport, 3050 Martin Luther King Jr. Boulevard, Shreveport, LA 71107. Grant: $550,000.

Dated: October 20, 2004.
Dennis C. Shea,
Assistant Secretary for Policy Development and Research.

[FR Doc. E4-2917 Filed 10-28-04; 8:45 am]

BILLING CODE 4210-27-P